DEPARTMENT OF COMMERCE

National Institute of Standards and Technology

Government owned inventions available for licensing

AGENCY: National Institute of Standards and Technology Commerce.

ACTION: Notice of Government owned inventions available for licensing.

SUMMARY: The inventions listed below are owned in whole or in part by the U.S. Government, as represented by the Department of Commerce, and are available for licensing in accordance with 35 U.S.C. 207 and 37 CFR part 404 to achieve expeditious commercialization of results of federally funded research and development.

FOR FURTHER INFORMATION CONTACT: Technical and licensing information on these inventions may be obtained by writing to: National Institute of Standards and Technology, Office of Technology Partnerships, Building 820, Room 213, Gaithersburg, MD 20899; Fax 301-869-2751. Any request for information should include the NIST Docket No. and Title for the relevant invention as indicated below.

SUPPLEMENTARY INFORMATION: NIST may enter into a Cooperative Research and Development Agreement (”CRADA‘) with the licensee to perform further research on the inventions for purposes of commercialization. The inventions available for licensing are:

NIST Docket Number: 99-039US.

Title: Fiber Optic Tomographic Plasma Uniformity Monitor.

Abstract: The tomographic plasma uniformity monitor simultaneously measures the optical emissions of a plasma from many different directions through two small windows in order to determine the plasma distribution within a vacuum chamber. This accomplished with two lens arrays coupling the light from the plasma into fiber optic cables. The light transmitted through each fiber optic cable is simultaneously recorded with a CCD camera. An appropriate tomographic inversion program can then be used to convert the measured intensities into a two dimensional map of the plasma density. This technology is available only for non-exclusive licensing.

NIST Docket Number: 99-002US.

Title: Three Degree-Of-Freedom Telescoping Geometry Scanner.

Abstract: The invention relates to a three-dimensional measuring device, comprising a rotating 360 degree sensor head, a laser scanner and an extendable mast system. The sensor head contains a 360 degree rotating multi-faceted mirror, which determines total path distance from the laser scanner to a particular target. Angular orientations on both the scanner and the faceted mirrors are calculated by a precision encoding system. The measured total path distance, mast system extension, scanner head rotation, mirror rotation angles, and mast deflection are all used to calculate the location of a target point in 3-D space relative to the scanner. The sensing device can be utilized in the construction and nuclear power areas. In the nuclear power area, the mast system can be extended into a contaminated area which the sensor remains outside the contaminated area, thereby avoiding contamination problems.

NIST Docket Number: 98-001US.

Title: Electrophoresis Gels.

Abstract: The present invention provides electrophoresis apparatus and electroporesis methods employing the present invention provides electrophoresis apparatus and electrophoresis methods employing gellan gum based gels employing divalent metal cation and diamine cross-linking agents. The gels are reversible under conditions that do not damage the biomolecules separated using the gels. The present invention also provides novel gellan gum-based gels which are cross-linked which employ a diamine cross-linking agent.

NIST Docket Number: 00-002US.

Title: Crosslinked Micellar Gel Composition.

Abstract: A crosslinked micellar gel composition is comprised of a polymer formed by a reaction between (a) ionic surfactant units which include ionic surfactant molecules, each of which includes a counterion which has a first polymerizable functional group, (b) crosslinking agent molecules, each of which includes two second polymerizable functional groups, and (c) a reaction initiator selected from the group consisting of reaction initiator molecules and ultraviolet light radiation, wherein the reaction initiator initiates a reaction between a plurality of the ionic surfactant units with each other and a plurality of the ionic surfactant units with the second polymerizable functional groups. The ionic surfactant molecules are rodlike in shape. The ionic surfactant units can consist essentially of ionic surfactant molecules or, alternatively, can also include co-monomer molecules. The polymer compositions formed from the reactions are crosslinked micellar gels which include a network structure of rodlike micelles forming a soft gel material which retains features and utility of rodlike micelles and benefits from the structural stability of a crosslinked ploymer matrix. Dilute hydrophobic solutes can be solubilized and concentrated in the micellar gel, removing the containants from solution. The gel which contains the absorbed solute can then be physically separated from the solution. The crosslinked micellar gel composition is not limited to aqueous solutions and can also be used as a delivery vehicle for solutes.

Dated: January 3, 2002.
Karen H. Brown,
Deputy Director.

[FR Doc. 02-997 Filed 1-14-02; 8:45 am]

BILLING CODE 3510-13-M